DEPARTMENT OF ENERGY

[Solicitation Number DE-PS07-02ID14238]

Idaho Operations Office; University Reactor Instrumentation (URI) Program

AGENCY: Idaho Operations Office, DOE.

ACTION: Notice of availability of solicitation for awards of financial assistance.

SUMMARY: The U.S. Department of Energy, Idaho Operations Office, is soliciting applications for special research grant awards that will upgrade and improve U.S. nuclear research and training reactors. It is anticipated that on September 27, 2001, a full text for Solicitation Number DE-PS07-02ID14238 for the 2002 URI Program will be made available at the Industry Interactive Procurement System (IIPS) Website at: http://e-center.doe.gov: The deadline for receipt of applications will be on November 29, 2001. Applications are to be submitted via the IIPS Website. Directions on how to apply and submit applications are detailed under the solicitation on the Website.

FOR FURTHER INFORMATION CONTACT: Kathleen Stallman, Contract Specialist at stallmkm@id.doe.gov.

SUPPLEMENTARY INFORMATION: The solicitation will be issued in accordance with 10 CFR 600.6(b), eligibility for awards under this program will be restricted to U.S. colleges and universities having a duly licensed, operating nuclear research or training reactor because the purpose of the University Reactor Instrumentation (URI) program is to upgrade and improve the U.S. university nuclear research and training reactors and to contribute to strengthening the academic community's nuclear engineering infrastructure.

The statutory authority for this program is Public Law 95-91.

Issued in Idaho Falls on September 25, 2001.
Michael L. Adams,
Acting Director, Procurement Services Division.

[FR Doc. 01-24608 Filed 10-1-01; 8:45 am]

BILLING CODE 6450-01-P